DEPARTMENT OF ENERGY

Federal Energy Regulatory Commission

[Docket No. RP02-5-001]

TransColorado Gas Transmission Company; Notice of Compliance Filing

November 19, 2001.

Take notice that on November 13, 2001, TransColorado Gas Transmission Company (TransColorado) tendered for filing as part of its FERC Gas Tariff, Original Volume No. 11, Second Revised Sheet No. 115 and Substitute Original Sheet Nos. 121, 124, 125, 423 and 424, to be effective November 1, 2001.

TransColorado states that the filing is being made in compliance with the Commission's October 26, 2001, order in Docket No. RP02-5-000. On October 26, 2001, the Commission issued an order in Docket No. RP02-5-000 (the October 26th order) approving TransColorado's October 1, 2001, proposal to implement a park and loan tariff provision. The October 26th order accepted TransColorado's proposed tariff sheets to be effective November 1, 2001, subject to TransColorado filing, within 15 days, revised tariff sheets to: (1) Remove the proposed exit fee and (2) clarify Section 6.1(a)(iii)(2). TransColorado's filing addresses these two issues on Sheet Nos. 121, 124, 125, 423 and 424 and corrects a pagination error on Sheet No. 115.

TransColorado stated that a copy of this filing has been served upon TransColorado's customers, the Colorado Public Utilities Commission and the New Mexico Public Utilities Commission.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29316 Filed 11-23-01; 8:45 am]

BILLING CODE 6717-01-P